DEPARTMENT OF THE INTERIOR

Bureau of Indian Affairs

Amendment to Santa Ana Pueblo Liquor Code

AGENCY: Bureau of Indian Affairs, Interior.

ACTION: Notice.

SUMMARY: This notice publishes the amendment to the Santa Ana Pueblo Liquor Code. The Santa Ana Pueblo Liquor Code, originally published in the Federal Register on August 7, 1996, regulates the control, possession, and sale of liquor on the Santa Ana Pueblo trust lands, in conformity with the laws of the State of New Mexico, where applicable and necessary. Although the amendment to the Santa Ana Pueblo Liquor Code was adopted on May 31, 2001, it does not become effective until published in the Federal Register because the failure to comply with the Code may result in criminal charges.

DATES: This amendment is effective on September 11, 2001.

FOR FURTHER INFORMATION CONTACT: Kaye Armstrong, Office of Tribal Services, 1849 C Street, NW., MS 4660-MIB, Washington, DC 20240-4001; telephone (202) 208-4400.

SUPPLEMENTARY INFORMATION: Pursuant to the Act of August 15, 1953, Pub. L. 277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Santa Ana Pueblo Liquor Code, as originally published in the Federal Register on August 7, 1996 (61 FR 41172), is amended by Resolution No. 01-R-16, to read as follows:

Section 128: Hours and Days of Sale

A. Alcoholic beverages may be sold, offered for sale, delivered, or consumed on licensed premises within the Santa Ana Indian Reservation during the following days and hours:

1. On Mondays through Sundays, between the hours of 7 a.m. and 2 a.m. the following day.

This notice is being published in accordance with the authority delegated by the Secretary of the Interior to the Assistant Secretary—Indian Affairs by 209 Departmental Manual 8.1.

I certify that by Resolution No. 01-R-16, the amendment to the Santa Ana Pueblo Liquor Code was duly adopted by the Tribal Council on May 31, 2001.

Dated: August 24, 2001.
Neal A. McCaleb,
Assistant Secretary—Indian Affairs.

[FR Doc. 01-22673 Filed 9-10-01; 8:45 am]

BILLING CODE 4310-02-P